NATIONAL CAPITAL PLANNING COMMISSION

Senior Executive Service; Performance Review Board Members

AGENCY: National Capital Planning Commission.

ACTION: Notice of Members of Senior Executive Service Performance Review Board.

SUMMARY: The current United States Code or its supplement requires each agency to establish, in accordance with regulations prescribed by the Office of Personnel Management, one or more Performance Review Boards (PRB) to review, evaluate and make a final recommendation on performance appraisals assigned to individual members of the agency's Senior Executive Service (SES). The PRB established for the National Capital Planning Commission also makes recommendations to the agency head regarding SES performance awards, rank awards and bonuses. The current United States Code or its supplement also requires that notice of appointment of Performance Review Board members be published in the Federal Register.

The following persons have been appointed to serve as members of the Performance Review Board for the National Capital Planning Commission: Vicki Barber, Mary John, Paige Cottinghamstreater, and Christopher J. Roscetti from October 23, 2017 to October 22, 2019.

FOR FURTHER INFORMATION CONTACT: Deborah Young, Administrative Officer, National Capital Planning Commission, 401 9th Street NW., Suite 500, Washington, DC 20004, (202) 482-7228.

Dated: August 21, 2017.
Barry S. Socks,
Chief Operating Officer.

[FR Doc. 2017-17973 Filed 8-23-17; 8:45 am]

BILLING CODE P